DEPARTMENT OF HOMELAND SECURITY

Transportation Security Administration

Intent To Request Renewal From OMB of One Current Public Collection of Information: Department of Homeland Security—Vulnerability Identification Self-Assessment Tool—Transportation (DHS-VISAT-T)

AGENCY: Transportation Security Administration, DHS.

ACTION: 60-day notice.

SUMMARY: The Transportation Security Administration (TSA) invites public comment on one currently approved Information Collection Request (ICR), OMB control number 1652-0037, abstracted below. TSA plans to submit the renewal request to the Office of Management and Budget (OMB) in compliance with the Paperwork Reduction Act. The ICR describes the nature of the information collection and its expected burden. The collection involves the voluntary submission of information regarding currently deployed security measures, through a self-assessment tool, from transportation sectors so that TSA can prioritize resources.

DATES: Send your comments by February 23, 2009.

ADDRESSES: Comments may be mailed or delivered to Ginger LeMay, Office of Information Technology, TSA-11, Transportation Security Administration, 601 South 12th Street, Arlington, VA 20598-6011.

FOR FURTHER INFORMATION CONTACT: Giner LeMay at the above address, or by telephone (571) 227-3616 or e-mail Ginger.LeMay@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control No. 1652-0037; Department of Homeland Security—Vulnerability Identification Self-Assessment Tool—Transportation (DHS-VISAT-T). After its inception TSA faced the challenge of enhancing security in all modes within the transportation sector. A methodology was required to support inter- and intra-modal analysis and decision-making. Millions of assets exist within the transportation sector, ranging from over 500,000 highway-bridges and approximately 4,000 mass transit agencies, to over 19,000 general aviation airports. Given this population of assets, in order to prioritize resources, TSA needs to continue to collect data from the asset owners or operators on security measures deployed and their effectiveness.

In response to this need, TSA's Office of Intelligence/Risk Support Division developed the Department of Homeland Security—Vulnerability Identification Self-Assessment Tool—Transportation (DHS-VISAT-T), formerly called the TSA Self-Assessment Risk Module (TSARM), as a means to gather security-related data and provide a cost-free service to the transportation sector. TSA designed this tool to be flexible to support the unique characteristics of each transportation mode, while still providing a common framework from which analysis can be conducted and trends can be identified. Thus far, TSA has developed modules of the tool for maritime, mass transit, highway bridges, and rail passenger stations, with more in development.

DHS-VISAT-T represents the U.S. Government's first self-assessment tool that guides a user through a series of security-related questions to develop a comprehensive baseline evaluation of a transit agency's current level of security. The tool provides the following features:

• The tool is provided to users at no cost;

• The tool is voluntary (potential users contact TSA to access the tool); and

• The tool is Web-based, easily accessible.

Owners and operators within the transportation sector can access information and use the assessment tool by visiting TSA's Web site: http://www.tsa.gov. Select the “Our Approach” link at the top tab area, then the “Risk Management” link on the left listing, followed by the “Risk Assessment Tools” link at the bottom of the page under “Additional Information,” and finally select one of the following links to the appropriate tool:

• Transportation Risk Assessment and Vulnerability Evaluation Tool.

• Maritime Vulnerability Identification Self-Assessment Tool.

• Mass Transit Vulnerability Identification Self-Assessment Tool.

Upon completion of the tool assessment, users receive a report that summarizes their inputs. They may then use this report to develop a security plan or to identify areas of potential vulnerability. Users have the option to submit the completed assessment to DHS. If submitted, DHS reviews the assessment for consistency and provides feedback to the users. The submission is treated as Sensitive Security Information pursuant to 49 CFR part 1520 and protected accordingly.

TSA is seeking OMB approval to renew this control number for the maximum three-year period to continue to provide this tool to transportation owners and operators so that owners and operators will have the benefits of using the tool, and TSA will have information useful to identifying the most significant risks.

Based on experience to date, TSA expects that approximately 1,000 persons will use the tool annually. The total estimated annual burden hours will be 8,000 based on an estimated 8 hours per respondent.

Issued in Arlington, Virginia, on December 18, 2008.
Ginger LeMay,
Paperwork Reduction Act Officer, Business Improvements and Communications, Office of Information Technology.

[FR Doc. E8-30569 Filed 12-23-08; 8:45 am]

BILLING CODE 9110-05-P